DEPARTMENT OF ENERGY

Federal Energy Regulatory Commission

[Docket No. CP02-434-000]

ANR Pipeline Company; Notice of Application

September 13, 2002.

Take notice that on September 6, 2002, ANR Pipeline Company (ANR), 9E Greenway Plaza, Houston, Texas 77046, filed in the above referenced docket, an application pursuant to sections 7(b) and 7(c) of the Natural Gas Act (NGA) and part 157 of the Commission's Rules and Regulations for a certificate of public convenience to construct and operate certain facilities in the states of Illinois and Wisconsin and authority to abandon certain facilities in the state of Wisconsin, all as more fully described in the application. This application is on file with the Commission and open to public inspection. This filing is available for review at the Commission in the Public Reference Room or may be viewed on the Commission's Web site at http://www.ferc.gov using the “FERRIS” link. Enter the docket number excluding the last three digits in the docket number field to access the document. For assistance, call (202) 502-8222 or for TTY, (202) 502-8659.

Specifically, ANR seeks authority to: (1) Construct and operate a total of approximately 26.3 miles of 30-inch diameter pipeline on its Madison Lateral in McHenry County, Illinois and Walworth and Rock Counties, Wisconsin (Madison Lateral Loop); (2) remove the existing 4-inch diameter and 6-inch diameter Beloit Lateral pipelines and replace them with approximately 6.5 miles of 20-inch diameter pipeline all in Rock County, Wisconsin (Beloit Lateral Replacement); (3) install a new meter station, the Tiffany East Meter Station, on and adjacent to ANR's existing Tiffany Meter Station site in Rock County, Wisconsin; and (4) upgrade its existing South Madison Meter Station in Rock County, Wisconsin. ANR estimates that the proposed facilities (WestLeg Project) will cost $42,087,000.

ANR states the purpose of the WestLeg Project is to serve new generation loads and meet the growth in demand of the local distribution company (LDC) sector in Rock and Dane Counties, Wisconsin. ANR states that it has entered into a precedent agreement with Wisconsin Power and Light Company (Wisconsin Power and Light) for 60,000 dth per day on ANR's system to the proposed Tiffany East Meter Station to meet the fuel requirements of the 600 megawatt Riverside Energy Center power plant. In addition, ANR states that is in negotiations with another customer for 34,000 Dth per day of capacity. Finally, ANR states that the capacity created by the WestLeg Project will allow ANR to terminate two transportation agreements with Northern Natural Gas Company (Northern Natural) that obligate ANR to pay Northern Natural for 86,500 Dth per day of capacity.

ANR requests a preliminary determination on the non-environmental issues by December 18, 2002 and a certificate of public convenience and necessity by July 1, 2002 in order to allow sufficient time for ANR to place the facilities into service by November 1, 2004.

Any questions regarding this application should be directed to Christopher Young, Senior Counsel, ANR Pipeline Company, 9 E Greenway Plaza, Suite 1882, Houston, Texas 77046, (832) 676-5593 or Thomas G. Joyce, Manager, (832) 676-3299.

There are two ways to become involved in the Commission's review of this project. First, any person wishing to obtain legal status by becoming a party to the proceedings for this project should, on or before October 4, 2002, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

The Commission strongly encourages electronic filings of comments, protests, and interventions via the internet in lieu of paper. See, 18 CFR 385.2001(a)(1)(iii) and the instructions on the Commission's Web site under the “e-Filing” link.

If the Commission decides to set the application for a formal hearing before an Administrative Law Judge, the Commission will issue another notice describing that process. At the end of the Commission's review process, a final Commission order approving or denying a certificate will be issued.

Magalie R. Salas,
Secretary.

[FR Doc. 02-23864 Filed 9-19-02; 8:45 am]

BILLING CODE 6717-01-P